DEPARTMENT OF AGRICULTURE

Forest Service

California Coast Provincial Advisory Committee

AGENCY: Forest Service, USDA.

ACTION: Notice of meeting.

SUMMARY: The California Coast Provincial Advisory Committee (PAC) will meet on July 17 and 18, 2002, in Humboldt County, California. The purpose of the meeting is to discuss issues relating to implementing the Northwest Forest Plan.

DATES: A business meeting will be held from 10 a.m. to 4 p.m. on July 17, 2002, at the Forest Supervisor's Office, Six Rivers National Forest, in Eureka, CA. A field tour of the Headwaters Forest Reserve will be held on July 18, 2002, from 8:30 a.m. until 3 p.m.

ADDRESSES: The July 17 business meeting will be held at the Forest Supervisor's Office, Six Rivers National Forest, 1330 Bayshore Drive, Eureka, CA. The July 18 field tour will begin at the Bureau of Land Management office, 1695 Heindon Rd., in Arcata, CA.

FOR FURTHER INFORMATION CONTACT: Phebe Brown, Committee Coordinator, USDA, Mendocino National Forest, 825 N. Humboldt Avenue, Willows, CA, 95988, (530) 934-3316; e-mail pybrown@fs.fed.us.

SUPPLEMENTARY INFORMATION: Agenda items to be covered include: (1) Presentation on Salmon Recovery Plan; (2) Regional Ecosystem Office (REO) update; (3) Bureau of Land Management presentation on Draft Environmental Impact Statement for the Headwaters Forest Reserve; (4) Update on planning for a Province fire ecology fuels treatment workshop; (5) Aquatic Conservation Subcommittee report; (6) Presentation on working with county Fire Safe Counsels; (7) Northwest Forest Plan Implementation Monitoring scheduling; (8) Options for vegetation management; and (9) Public comment. The meeting is open to the public. Public input opportunity will be provided and individuals will have the opportunity to address the Committee at that time.

Dated: June 16, 2002.
James Fenwood,
Forest Supervisor.

[FR Doc. 02-16731 Filed 7-2-02; 8:45 am]

BILLING CODE 3410-11-M